DEPARTMENT OF HEALTH AND HUMAN SERVICES

National Institutes of Health

National Institute of Environmental Health Sciences; Notice of Closed Meetings

Pursuant to section 10(d) of the Federal Advisory Committee Act, as amended, notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Environmental Health Sciences Special Emphasis Panel; Review of Applications Addressing Population-Based Model Organisms in a GxE Context and Predisposition to Complex Diseases.

Date: June 25-26, 2018.

Time: 8:00 a.m. to 1:00 p.m.

Agenda: To review and evaluate grant applications.

Place: Fairfield Inn & Suites Durham Southpoint, 7807 Leonardo Drive, Durham, NC 27713.

Contact Person: Leroy Worth, Ph.D., Scientific Review Officer, Division of Extramural Research and Training, National Institute of Environmental Health Sciences, National Institutes of Health, Keystone Building, 530 Davis Drive, Suite 3171, Research Triangle Park, NC 27709, (919) 541-2824, worth@niehs.nih.gov.

Name of Committee: National Institute of Environmental Health Sciences Special Emphasis Panel; R13 Conference Grants Applications.

Date: June 27, 2018.

Time: 11:00 a.m. to 2:00 p.m.

Agenda: To review and evaluate contract proposals.

Place: NIEHS/National Institute of Health, Keystone Building, 530 Davis Drive, Suite 1001, Research Triangle Park, NC 27709, Durham, NC 27703 (Telephone Conference Call).

Contact Person: Laura A. Thomas, Ph.D., Scientific Review Officer, Scientific Review Branch, Division of Extramural Research and Training, National Institute of Environmental Health Sciences, Research Triangle Park, NC 27709, 919-541-2824, laura.thomas@nih.gov.

Name of Committee: Summer Research Education Experience Programs; R25National Institute of Environmental Health Sciences Special Emphasis Panel.

Date: June 28, 2018.

Time: 1:00 p.m. to 5:00 p.m.

Agenda: To review and evaluate grant applications.

Place: NIEHS/National Institute of Health, Keystone Building, 530 Davis Drive, Suite 1002, Research Triangle Park, NC 27709 (Telephone Conference Call).

Contact Person: Linda K. Bass, Ph.D., Scientific Review Officer, Division of Extramural Research and Training, National Institute of Environmental Health Sciences, National Institutes of Health, Keystone Building, 530 Davis Drive, Suite 3074, Research Triangle Park, NC 27709, (919) 541-2824, worth@niehs.nih.gov.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: June 8, 2018.
Natasha M. Copeland,
Program Analyst, Office of Federal Advisory Committee Policy.

[FR Doc. 2018-12675 Filed 6-12-18; 8:45 am]

BILLING CODE 4140-01-P